DEPARTMENT OF JUSTICE

Antitrust Division

Notice Pursuant to the National Cooperative Research and Production Act of 1993—Mercury Consortium, Inc.

Notice is hereby given that, on July 29, 2025, pursuant to section 6(a) of the National Cooperative Research and Production Act of 1993, 15 U.S.C. 4301 et seq. (“the Act”), Mercury Consortium, Inc. (“Mercury Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: E.ON Next Energy Limited, Coventry, UNITED KINGDOM; EDF Energy R&D UK Centre, London, UNITED KINGDOM; GivEnergy Software Ltd., Newcastle-under-Lyme, UNITED KINGDOM; Kraken Technologies Limited, London, UNITED KINGDOM; Mixergy, Cassington, UNITED KINGDOM; New York Power Authority, White Plains, NY; Octopus Energy Group, London, UNITED KINGDOM; Utilidata, Providence, RI; gridX GmbH, Aachen, FEDERAL REPUBLIC OF GERMANY; Consolidated Edison Company of New York, New York, NY; OpenADR Alliance Inc., San Ramon, CA; Salt River Project, Tempe, AZ; Southern California Edison, Rosemead, CA; and Essential Energy, Port Macquarie, COMMONWEALTH OF AUSTRALIA.

The general areas of Mercury Consortium's planned activity are to (a) develop use cases, tests certification suites and other deliverables to enable consumer adoption and seamless communication of energy devices in energy markets and grids, (b) develop and oversee certification programs, (c) promote consumer participation in demand flexibility initiatives, (d) represent and advocate for the interests of its members before legislative, regulatory, and other governmental bodies, and (e) undertake such other activities as may from time to time be appropriate to further the purposes and achieve the goals set forth above. Membership in Mercury Consortium remains open and Mercury Consortium intends to file additional written notifications disclosing all changes in membership.

Suzanne Morris,
Deputy Director Civil Enforcement Operations, Antitrust Division.

[FR Doc. 2025-15695 Filed 8-15-25; 8:45 am]

BILLING CODE 4410-11-P